DEPARTMENT OF LABOR

Occupational Safety and Health Administration

[Docket No. OSHA-2011-0055]

Steel Erection; Extension of the Office of Management and Budget's (OMB) Approval of Information Collection (Paperwork) Requirements

AGENCY: Occupational Safety and Health Administration (OSHA), Labor.

ACTION: Request for public comments.

SUMMARY: OSHA solicits public comments concerning its proposal to extend OMB approval of the information collection requirements specified in the Standard on Steel Erection (29 CFR part 1926, subpart R).

DATES: Comments must be submitted (postmarked, sent, or received) by August 18, 2014.

ADDRESSES: Electronically: You may submit comments and attachments electronically at http://www.regulations.gov, which is the Federal eRulemaking Portal. Follow the instructions online for submitting comments.

Facsimile: If your comments, including attachments, are not longer than 10 pages you may fax them to the OSHA Docket Office at (202) 693-1648.

Mail, hand delivery, express mail, messenger, or courier service: When using this method, you must submit a copy of your comments and attachments to the OSHA Docket Office, OSHA Docket No. OSHA-2011-0055, U.S. Department of Labor, Occupational Safety and Health Administration, Room N-2625, 200 Constitution Avenue NW., Washington, DC 20210. Deliveries (hand, express mail, messenger, and courier service) are accepted during the Department of Labor's and Docket Office's normal business hours, 8:15 a.m. to 4:45 p.m., e.t.

Instructions: All submissions must include the Agency name and the OSHA docket number (OSHA-2011-0055) for the Information Collection request (ICR). All comments, including any personal information you provide, are placed in the public docket without change, and may be made available online at http://www.regulations.gov. For further information on submitting comments, see the “Public Participation” heading in the section of this notice titled SUPPLEMENTARY INFORMATION.

Docket: To read or download comments or other material in the docket, go to http://www.regulations.gov or the OSHA Docket Office at the address above. All documents in the docket (including this Federal Register notice) are listed in the http://www.regulations.gov index; however, some information (e.g., copyrighted material) is not publicly available to read or download from the Web site. All submissions, including copyrighted material, are available for inspection and copying at the OSHA Docket Office. You may also contact Theda Kenney at the address below to obtain a copy of the ICR.

FOR FURTHER INFORMATION CONTACT: Theda Kenney or Todd Owen, Directorate of Standards and Guidance, OSHA, U.S. Department of Labor, Room N-3609, 200 Constitution Avenue NW., Washington, DC 20210; telephone (202) 693-2222.

SUPPLEMENTARY INFORMATION:

I. Background

The Department of Labor, as part of its continuing effort to reduce paperwork and respondent (i.e., employer) burden, conducts a preclearance consultation program to provide the public with an opportunity to comment on proposed and continuing information collection requirements in accord with the Paperwork Reduction Act of 1995 (PRA-95) (44 U.S.C. 3506(c)(2)(A)). This program ensures that information is in the desired format, reporting burden (time and costs) is minimal, collection instruments are clearly understood, and OSHA's estimate of the information collection burden is accurate. The Occupational Safety and Health Act of 1970 (the OSH Act) (29 U.S.C. 651 et seq.) authorizes information collection by employers as necessary or appropriate for enforcement of the Act or for developing information regarding the causes and prevention of occupational injuries, illnesses, and accidents (29 U.S.C. 657). The OSH Act also requires that OSHA obtain such information with minimum burden upon employers, especially those operating small businesses, and to reduce to the maximum extent feasible unnecessary duplication of efforts in obtaining information (29 U.S.C. 657).

Section 1926.752(a)(1). Description of the requirement. Based on the results of a specified method for testing field-cured samples, the controlling contractor must provide the steel erector with written notification that the concrete in the footings, piers, and walls, or the mortar in the masonry piers and walls, is at 75% of its minimum compressive-design strength or has sufficient strength to support loads imposed during steel erection. Note: This is not and will not be enforced for mortar in piers and walls until OSHA defines an appropriate substitute or until an appropriate American Society for Testing and Materials (ASTM) test method is developed.

Sections 1926.752(a)(2) and 1926.755(b)(1). Description of the requirements. Under § 1926.752(a)(2), the controlling contractor, before it authorizes commencement of steel erection, must notify the steel erector in writing that any repairs, replacements, and modifications to anchor bolts (rods) have been made in accord with § 1926.755(b)(1) which requires that the controlling contractor obtain approval from the project structural engineer of record for the repairs, replacements, and modifications.

Section 1926.753(c)(5). Description of the requirement. Employers must not deactivate safety latches on hooks or make them inoperable except for the situation when a qualified rigger determines that it is safer to hoist and place purlins and single joists by doing so; or except when equivalent protection is provided in the site-specific erection plan.

Section 1926.753(e)(2). Description of the requirement. Employers must have the maximum capacity of the total multiple-lift rigging assembly, as well as each of its individual attachment points, certified by the manufacturer or a qualified rigger.

Sections 1926.755(b)(2) and 1926.755(b)(1). Description of the requirements. Under § 1926.755(b)(2), throughout steel erection the controlling contractor must notify the steel erector in writing of additional repairs, replacements, and modifications of anchor bolts (rods); § 1926.755(b)(1) requires that these repairs, replacements and modifications not be made without approval from the project structural engineer of record.

Section 1926.757(a)(4). Description of the requirement. If steel joists at or near columns span more than 60 feet, employers must set the joists in tandem with all bridging installed. However, the employer may use an alternative method of erection if a qualified person develops the alternative method, it provides equivalent stability, and the employer includes the method in the site-specific erection plan.

Section 1926.757(a)(7). Description of the requirement. Employers must not modify steel joists or steel joist girders in a way that affects their strength without the approval of the project structural engineer of record.

Sections 1926.757(a)(9) and 1926.758(g). Description of the requirements. An employer can use a steel joist, steel joist girder, purlin, or girt as an anchorage point for a fall arrest system only with the written approval of a qualified person.

Section 1926.757(e)(4)(i). Description of the requirement. An employer must install and anchor all bridging on joists and attach all joist bearing ends before placing a bundle of decking on the joists, unless: A qualified person determines that the structure or portion of the structure is capable of supporting the bundle, the employer documents this determination in the site-specific erection plan and follows the additional requirements specified in § 1926.757(e)(4)(ii)-(vi).

Section 1926.760(e) and (e)(1). Description of the requirement. The steel erector can leave its fall protection at the jobsite after completion of the erection activity only if the controlling contractor or its authorized representative directs the steel erector to do so and inspects and accepts responsibility for the fall protection.

Section 1926.761. Description of the requirement. Employers must have qualified persons provide training to all workers exposed to fall hazards. This training is to include: Recognition of fall hazards at the worksite; use and operation of guardrail systems, personal fall arrest systems, positioning device systems, fall restraint systems, safety net systems, and other fall protection implemented at the worksite; correct procedures for erecting, maintaining, disassembling, and inspecting these fall protection systems; procedures that prevent falls to lower levels, and through or into holes and openings in walking-working surfaces; and the fall protection requirements of this Subpart. In addition, employers are to provide special training to workers engaged in multiple-lift rigging procedures (i.e., to recognize multi-lift hazards and in the proper procedures and equipment to perform multiple lifts), connector procedures (i.e., to identify connector hazards and in the requirements of §§ 1926.756(c) and 1926.760(b)), and controlled decking zone (CDZ) procedures (i.e., knowledge of CDZ hazards and in the requirements of §§ 1926.754(e) and 1926.760(c)).

Paragraph (c)(4)(ii) of Appendix G to Subpart R. Description of the requirement. This mandatory appendix duplicates the regulatory requirements of § 1926.502 (“Fall protection systems criteria and practices”), notably the requirements specified in paragraph (c)(4)(ii). This paragraph addresses the certification of safety nets as an option available to employers who can demonstrate that performing a drop test on safety nets is unreasonable. This provision allows such employers to certify that their safety nets, including the installation of the nets, protect workers at least as well as safety nets that meet the drop test criteria. The employer must complete the certification process prior to using the net for fall protection, and the certificate must include the following information: Identification of the net and the type of installation used for the net; the date the certifying party determined that the net and its installation would meet the drop-test criteria; and the signature of the party making this determination. The most recent certificate must be available at the jobsite for inspection.

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

The Agency is requesting that OMB extend its approval of the information collection requirements contained in the Standard on Steel Erection (29 CFR part 1926, subpart R). The Agency is requesting an adjustment decrease of 2,203 burden hours (from 23,602 hours to 21,399 hours). This decrease is due to a decline in worksites associated with this subpart from 15,578 to 13,864.

Type of Review: Extension of a currently approved collection.

Title: Steel Erection (29 CFR part 1926, subpart R).

OMB Control Number: 1218-0241.

Affected Public: Business or other for-profits.

Number of Respondents: 13,864.

Frequency of Responses: On occasion, annually; triennially.

Number of Responses: 72,317.

Average Time per Response: Varies from one minute (.02 hour) for a controlling contractor to inform a steel erector to leave fall protection at the jobsite to five hours for a project engineer to do research and analysis to provide approval for modifications to steel joists or joist girders.

Estimated Total Burden Hours: 21,399.

Estimated Cost (Operation and Maintenance): $0.

IV. Public Participation—Submission of Comments on This Notice and Internet Access to Comments and Submissions

You may submit comments in response to this document as follows: (1) Electronically at http://www.regulations.gov, which is the Federal eRulemaking Portal; (2) by facsimile (fax); or (3) by hard copy. All comments, attachments, and other material must identify the Agency name and the OSHA docket number for the ICR (Docket No. OSHA-2011-0055). You may supplement electronic submissions by uploading document files electronically. If you wish to mail additional materials in reference to an electronic or facsimile submission, you must submit them to the OSHA Docket Office (see the section of this notice titled ADDRESSES). The additional materials must clearly identify your electronic comments by your name, date, and the docket number so the Agency can attach them to your comments.

Because of security procedures, the use of regular mail may cause a significant delay in the receipt of comments. For information about security procedures concerning the delivery of materials by hand, express delivery, messenger, or courier service, please contact the OSHA Docket Office at (202) 693-2350, (TTY (877) 889-5627).

Comments and submissions are posted without change at http://www.regulations.gov. Therefore, OSHA cautions commenters about submitting personal information such as social security numbers and date of birth. Although all submissions are listed in the http://www.regulations.gov index, some information (e.g., copyrighted material) is not publicly available to read or download from this Web site. All submissions, including copyrighted material, are available for inspection and copying at the OSHA Docket Office. Information on using the http://www.regulations.gov Web site to submit comments and access the docket is available at the Web site's “User Tips” link. Contact the OSHA Docket Office for information about materials not available from the Web site, and for assistance in using the Internet to locate docket submissions.

V. Authority and Signature

David Michaels, Ph.D., MPH, Assistant Secretary of Labor for Occupational Safety and Health, directed the preparation of this notice. The authority for this notice is the Paperwork Reduction Act of 1995 (44 U.S.C. 3506 et seq.) and Secretary of Labor's Order No. 1-2012 (77 FR 3912).

Signed at Washington, DC, on June 13, 2014.
David Michaels,
Assistant Secretary of Labor for Occupational Safety and Health.

[FR Doc. 2014-14330 Filed 6-18-14; 8:45 am]

BILLING CODE 4510-26-P